DEPARTMENT OF COMMERCE

National Oceanic and Atmospheric Administration

50 CFR Part 229

[Docket No. 060928250-6250-01; I.D. 092506A]

RIN 0648-AU90

Taking of Marine Mammals Incidental to Commercial Fishing Operations; Atlantic Large Whale Take Reduction Plan

AGENCY: National Marine Fisheries Service (NMFS), National Oceanic and Atmospheric Administration (NOAA), Commerce.

ACTION: Proposed rule; reopening of public comment period.

SUMMARY: On November 15, 2006, NMFS proposed to revise the regulations implementing the Atlantic Large Whale Take Reduction Plan (ALWTRP) by expanding the southeast U.S. restricted area to include waters out to 35 nautical miles from the South Carolina coast and modifying regulations pertaining to gillnetting within the southeast U.S. restricted area. The proposed action was determined to be necessary to protect northern right whales from serious injury or mortality from entanglement in gillnet gear in their calving area in Atlantic Ocean waters off the Southeastern U.S. With this notice, NMFS is reopening the public comment period for 15 days beginning January 16, 2007.

DATES: Written comments on this proposed rule must be received by 5 p.m. EST on January 31, 2007. Comments received between the close of the first comment period on December 15, 2006, and the reopening of the comment period on January 16, 2007 will be considered timely received.

ADDRESSES: Written comments should be identified by the Regulatory Information Number (RIN) “0648-AU90” and submitted by any of the following methods:

• E-mail: sewhalerule.comments@noaa.gov. Include RIN 0648-AU90 in the subject line of the message.

• Mail: Assistant Regional Administrator for Protected Resources, NMFS, 263 13th Avenue South, St. Petersburg, FL 33701.

• Facsimile (fax) to: 727-824-5309, Attn: Assistant Regional Administrator, Protected Resources, NMFS.

• Federal eRulemaking Portal: http://www.regulations.gov. Follow the instructions for submitting comments.

Instructions: All submissions received must include the agency name and docket number or RIN for this proposed rulemaking.

FOR FURTHER INFORMATION CONTACT: Laura Engleby, 727-824-5312, or Barb Zoodsma, 904-321-2806. Individuals who use telecommunications devices for the deaf (TDD) may call the Federal Information Relay Service at 1-800-877-8339 between 8 a.m. and 4 p.m. eastern time, Monday through Friday, excluding Federal holidays.

Electronic Access: Regulations and background documents for the ALWTRP can be downloaded from the ALWTRP web site at http://www.nero.noaa.gov/whaletrp/.

SUPPLEMENTARY INFORMATION:

Background

On November 15, 2006, NMFS published a proposed rule to revise the regulations implementing the ALWTRP by expanding the southeast U.S. restricted area and modifying regulations pertaining to gillnetting within the southeast U.S. restricted area (71 FR 66482). That proposed rule allowed for a NMFS' 30-day public comment period, which ended on December 15, 2006.

NMFS subsequently received requests from the State of North Carolina and the Marine Mammal Commission (MMC) to extend the comment period. These requests stated that more time is necessary for the North Carolina public and members of the MMC to more fully review and provide comments on the proposed rule. Therefore, NMFS is reopening the public comment period for 15 additional days to allow additional time for these requesters and other interested parties to provide comments while ensuring permanent protections are in place for right whales before the end of the calving season. In this notice, NMFS is reopening the public comment period for 15 days from January 16, 2007 until January 31, 2007.

Authority: 16 U.S.C. 1361 et seq.; § 229.32(f) also issued under 16 U.S.C. 1531 et seq.

Dated: Januaary 8, 2007.
Samuel D. Rauch III,
Deputy Assistant Administrator for Regulatory Programs, National Marine Fisheries Service.

[FR Doc. E7-367 Filed 1-12-07; 8:45 am]

BILLING CODE 3510-22-S